DEPARTMENT OF COMMERCE

International Trade Administration

[C-337-807]

Notice of Final Negative Countervailing Duty Determination: IQF Red Raspberries from Chile

AGENCY: Import Administration, International Trade Administration, Department of Commerce.

ACTION: Notice of final negative countervailing duty determination.

SUMMARY: The Department of Commerce (“the Department”) has made a final determination that countervailable subsidies are not being provided to producers and exporters of individually quick frozen red raspberries in Chile.

EFFECTIVE DATE: May 22, 2002.

FOR FURTHER INFORMATION CONTACT: Craig Matney or Jennifer Jones, Office of AD/CVD Enforcement 1, Import Administration, U.S. Department of Commerce, Room 3096, 14th Street and Constitution Avenue, NW, Washington, DC 20230; telephone: (202) 482-1778 or 482-4194, respectively.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (April 2001).

Petitioners

The petition in this investigation was filed by the IQF Red Raspberries Fair Trade Committee (“Committee”) and its members (collectively referred to hereinafter as “the petitioners”). The Committee is an ad hoc association of growers and processors of IQF red raspberries. All of the members of the Committee are producers of IQF red raspberries.

Case History

Since the publication of the preliminary determination in the Federal Register (see Preliminary Negative Countervailing Duty Determination and Alignment of Final Countervailing Duty Determination With Final Antidumping Duty Determination: IQF Red Raspberries from Chile, 66 FR 52588 (October 16, 2001) (“Preliminary Determination”)), the following events have occurred:

We conducted verification of the questionnaire responses of the Government of Chile (“GOC”), Fruticola Olmue S.A. (“Olmue”), Exportadora Frucol Ltda. (“Frucol”) and Comercial Fruticola S.A. (“Comfrut”) from December 12-19, 2001.

On December 12, 2001, based on a request from Olmue, Frucol and Comfrut (collectively, “the responding companies”), which are also respondents in the companion antidumping duty investigation, the Department postponed the final antidumping determination until May 15, 2002. Because of the alignment of the countervailing duty investigation with the antidumping duty investigation, the final determination in the countervailing duty investigation was also postponed until May 15, 2002. See Notice of Preliminary Determination of Sales at Less Than Fair Value and Postponement of Final Determination: IQF Red Raspberries from Chile, 66 FR 67510 (December 30, 2001).

On March 25, 2002, we received a combined case brief from the GOC and the three responding companies. No brief or rebuttal brief was filed by the petitioners. No hearing was held because none was requested.

Scope of Investigation

The products covered by this investigation are imports of IQF whole or broken red raspberries from Chile, with or without the addition of sugar or syrup, regardless of variety, grade, size or horticulture method (e.g., organic or not), the size of the container in which packed, or the method of packing. The scope of the investigation excludes fresh red raspberries and block frozen red raspberries (i.e., puree, straight pack, juice stock, and juice concentrate).

The merchandise subject to this investigation is classifiable under 0811.20.2020 of the Harmonized Tariff Schedule of the United States (“HTSUS”). Although the HTSUS subheading is provided for convenience and customs purposes, the written description of the merchandise under investigation is dispositive.

Period of Investigation

The period for which we are measuring subsidies (the POI) is calendar year 2000.

Analysis of Comments Received

All issues raised in the case brief submitted are addressed in the Decision Memorandum, which is hereby adopted by this notice. Attached to this notice as Appendix I is a list of the issues which parties have raised and to which we have responded in the Decision Memorandum. Parties can find a complete discussion of all issues raised in this investigation and the corresponding recommendations in this public memorandum which is on file in the Central Records Unit, room B-099 of the main Department building. In addition, a complete version of the Decision Memorandum can be accessed directly on the Internet at http://ia.ita.doc.gov/frn/ under the heading “Chile.” The paper copy and electronic version of the Decision Memorandum are identical in content.

Verification

In accordance with section 782(i) of the Act, we verified the information used in making our final determination. We followed standard verification procedures, including meeting with government and company officials, and examining relevant accounting records and original source documents. Our verification results are outlined in detail in the public versions of the verification reports, which are on file in the Central Records Unit of the Department of Commerce, Room B-099.

Summary

The total net countervailable subsidy rates for Olmue, Comfrut, and Frucol are 0.01, 0.16 and 0.65 percent, ad valorem, respectively. All of these rates are de minimis. Therefore, we determine that countervailable subsidies are not being provided to producers or exporters of IQF red raspberries in Chile.

Suspension of Liquidation

In the Preliminary Determination, the total net countervailable subsidy rates for all the responding companies were de minimis and, therefore, we did not suspend liquidation. For the instant determination, because the rates for all the responding companies remain de minimis, we are not directing the Customs Service to suspend liquidation of IQF red raspberries from Chile.

Notification of the International Trade Commission

In accordance with section 705(d) of the Act, we have notified the International Trade Commission of our determination.

Return or Destruction of Proprietary Information

This notice will serve as the only reminder to parties subject to Administrative Protective Order of their responsibility concerning the return or destruction of proprietary information disclosed under APO in accordance with 19 CFR 351.305(a). Failure to comply is a violation of the APO.

This determination is published pursuant to sections 705(d) and 777(i) of the Act.

Dated: May 15, 2002
Faryar Shirzad,
Assistant Secretary for Import Administration.

APPENDIX

List of Comments and Issues in the Decision Memorandum

Comment 1: Benchmark Interest Rates

Comment 2: Countervailability of ProChile Export Promotion Assistance Program

[FR Doc. 02-12858 Filed 5-21-02; 8:45 am]

BILLING CODE 3510-DS-S